DEPARTMENT OF TRANSPORTATION

National Highway Traffic Safety Administration

[Docket No. NHTSA-2019-0057]

Federal Advisory Committee National Emergency Medical Services Advisory Council (NEMSAC); Notice of Meeting

AGENCY: National Highway Traffic Safety Administration (NHTSA), U.S. Department of Transportation (DOT).

ACTION: Meeting Notice—National Emergency Medical Services Advisory Council

SUMMARY: NHTSA announces a meeting of NEMSAC to be held at DOT Headquarters in Washington, DC. This notice announces the date, time, and location of the meeting, which will be open to the public, as well as provide opportunities for public input to the NEMSAC. The purpose of NEMSAC, a nationally recognized council of emergency medical services representatives and consumers, is to advise and consult with DOT and the Federal Interagency Committee on Emergency Medical Services (FICEMS) on matters relating to emergency medical services (EMS).

DATES: The NEMSAC meeting will be held on July 9, 2019, from 9 a.m. to 4:30 p.m. EDT, on July 10, 2019, from 9 a.m. to 4:30 p.m. EDT and on July 11, 2019 form 9 a.m. to 4:00 p.m. EDT. A public comment period will take place on July 9, 2019, between 11 a.m. and 11:30 a.m. EDT and July 10, 2019, between 10:45 a.m. and 11:15 a.m. EDT. Written comments for the NEMSAC from the public must be received no later than July 1, 2019.

ADDRESSES: The meetings will be held at the DOT Headquarters, 1200 New Jersey Avenue SE, Washington, DC 20590. Attendees should plan to arrive 10-15 minutes early.

FOR FURTHER INFORMATION CONTACT: Eric Chaney, DOT, Office of Emergency Medical Services, 1200 New Jersey Avenue SE, NPD-400, Washington, DC 20590, EricChaney@dot.gov or 202-366-0257.

SUPPLEMENTARY INFORMATION: Notice of the NEMSAC meeting is given under the Federal Advisory Committee Act, Public Law 92-463, as amended (5 U.S.C. App. 2). The NEMSAC is authorized under Section 31108 of the Moving Ahead with Progress in the 21st Century Act of 2012.

Tentative Agenda of the National EMS Advisory Council Meeting

The tentative NEMSAC agenda includes the following:

Tuesday, July 9, 2019 (9 a.m. to 4:30 p.m. EDT)

(1) Call to Order, Introductions, and Opening Remarks (9 a.m. to 9:30 a.m. EDT)

(2) Approval of October 2018 NEMSAC Meeting Minutes (9:30 a.m. to 9:45 a.m. EDT)

(3) Federal Liaison Update

(4) Prehospital Pediatric Emergency Care Coordinator Project (10 a.m. to 10:30 a.m. EDT)

(5) Critical Crossroads Project (10:30 a.m. to 10:45 a.m. EDT)

(6) Break (10:45 a.m. to 11 a.m. EDT)

(7) Public Comment (11 a.m. to 11:30 a.m. EDT)

(8) FICEMS Strategic Plan Update/Revision (11:30 a.m. to 12:00 p.m. EDT)

(9) Lunch (12 p.m. to 1 p.m. EDT)

(10) CMS Emergency Triage, Treat and Transport (ET3) Model (1 p.m. to 1:30 p.m. EDT)

(11) Review and Discussion of Previously Approved NEMSAC Recommendations (1:30 p.m. to 2 p.m. EDT)

(12) Review of Ongoing NHTSA Projects (2 p.m. to 2:30 p.m. EDT)

(13) Break (2:30 p.m. to 3 p.m. EDT)

(14) Ad Hoc Committee Reports (3 p.m. to 3:30 p.m. EDT)

(15) NEMSIS Update (3:30 p.m. to 4 p.m. EDT)

(16) Review of Action Items (4:00 p.m. to 4:30 p.m. EDT)

Wednesday, July 10, 2019 (9:00 a.m. to 4:30 p.m. EDT)

(1) Reconvene and Introductions (9 a.m. to 9:15 a.m. EDT)

(2) Committee Reports (9:15 a.m. to 10:45 a.m. EDT)

(3) Public Comment (10:45 a.m. to 11:15 a.m. EDT)

(4) Continue Discussion of NEMSAC Focus Areas for 2019—2020 (11:15 a.m. to 11:30 a.m. EDT)

(5) Committee Break Out Sessions (12:00 p.m. to 4:00 p.m. EDT)

Thursday, July 11, 2019 (9:00 a.m. to 4:00 p.m. EDT)

(1) Reconvene and Introductions (9 a.m. to 9:15 p.m. EDT)

(2) Committee Break Out Sessions (9:15 a.m. to 12:00 a.m. EDT)

(3) Lunch (12:00 a.m. to 1:00 p.m. EDT)

(4) Committee Reports (1:15 a.m. to 4 p.m.)

Registration Information: This meeting will be open to the public; however, pre-registration is requested no later than June 28, 2019. For assistance with NEMSAC registration, please contact Eric Chaney at Eric.Chaney@dot.gov or 202-366-0257. There will not be a teleconference option for this meeting.

Public Comment: Members of the public are encouraged to comment directly to the NEMSAC during designated public comment periods. In order to allow as many people as possible to speak, speakers are requested to limit their remarks to 5 minutes. Written comments from members of the public will be distributed to NEMSAC at the meeting and should reach the NHTSA Office of EMS no later than July 1, 2019. Written comments may be submitted by either one of the following methods: (1) You may submit comments by email: nemsac@dot.gov or (2) you may submit comments by fax: 202-366-7149.

NHTSA is committed to providing equal access to this meeting for all participants. If you need alternative formats or services because of a disability, please contact the Eric Chaney at the email or phone number listed in the “Registration Information” section with your request by close of business on July 1, 2019.

A final agenda as well as meeting materials will be available to the public online through www.EMS.gov on or before July 1, 2019.

Authority: 44 U.S.C. Section 3506(c)(2)(A)

Issued in Washington, DC.
Jon Krohmer,
Acting Associate Administrator, Office of Research and Program Development.

[FR Doc. 2019-12934 Filed 6-19-19; 8:45 am]

BILLING CODE 4910-59-P